DEPARTMENT OF DEFENSE

Office of the Secretary

Meeting of the Defense Department Advisory Committee on Women in the Services (DACOWITS)

AGENCY: Department of Defense; Notice of Meeting.

ACTION: Notice.

SUMMARY: This notice is hereby given for a forthcoming meeting of the Defense Department Advisory Committee on Women in the Services (DACOWITS). The purpose of the Committee meeting is to discuss the 2004 DACOWITS Report. The meeting is open to the public, subject to the availability of space.

Interested persons may submit a written statement for consideration by the Committee and make an oral presentation of such. Persons desiring to make an oral presentation or submit a written statement to the Committee must notify the point of contact listed below no later than 5 p.m., November 1, 2004. Oral presentations by members of the public will be permitted only on Tuesday, November 9, 2004, from 4:30 p.m. to 4:45 p.m. before the full Committee. Presentations will be limited to two minutes. Number of oral presentations to be made will depend on the number of requests received from members of the public. Each person desiring to make an oral presentation must provide the point of contact listed below with one (1) copy of the presentation by 5 p.m., November 1, 2004, and bring 35 copies of any material that is intended for distribution at the meeting. Persons submitting a written statement must submit 35 copies of the statement to the DACOWITS staff by 5 p.m. on November 1, 2004.

DATES: November 8, 2004, 8:30 a.m.-5 p.m., November 9, 2004, 8:30 a.m.-5 p.m.

Location: Embassy Suites Hotel, Crystal City—National Airport, 1300 Jefferson Davis Highway, Arlington, VA 22202.

FOR FURTHER INFORMATION CONTACT: MSgt Gerald T. Posey, USAF, DACOWITS, 4000 Defense Pentagon, Room 2C548A, Washington, DC 20301-4000. Telephone (703) 697-2122. Fax (703) 614-6233.

SUPPLEMENTARY INFORMATION: Meeting Agenda.

Monday, November 8, 2004, 8:30 a.m.-5 p.m.

2004 Committee Report.

Tuesday, November 9, 2004, 8:30 a.m.-5 p.m.

2004 Committee Report.

4:30 p.m.-4:45 p.m. (Public Forum)

Note: Exact order may vary.

Dated: October 14, 2004.
Jeannette Owings-Ballard,
OSD Federal Register Liaison Officer, Department of Defense.

[FR Doc. 04-23542 Filed 10-20-04; 8:45 am]

BILLING CODE 5001-08-M